INTERNATIONAL TRADE COMMISSION

[Investigation Nos. 701-TA-468 and 731-TA-1166-1167 (Review)]

Certain Magnesia Carbon Bricks From China and Mexico

Determinations

On the basis of the record ¹ developed in the subject five-year reviews, the United States International Trade Commission (“Commission”) determines, pursuant to the Tariff Act of 1930, that revocation of the countervailing duty order on certain magnesia carbon bricks from China and the antidumping duty orders on certain magnesia carbon bricks from China and Mexico would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on August 3, 2015 (80 FR 46050) and determined on November 6, 2015 that it would conduct expedited reviews (80 FR 74799, November 30, 2015).

The Commission made these determinations pursuant to section 751(c) of the Tariff Act of 1930 (19 U.S.C. 1675(c)). It completed and filed its determinations in these reviews on January 15, 2016. The views of the Commission are contained in USITC Publication 4589 (January 2016), entitled Certain Magnesia Carbon Bricks from China and Mexico: Investigation Nos. 701-TA-468 and 731-TA-1166-1167 (Review).

Issued: January 27, 2016.
By order of the Commission.
Lisa R. Barton,
Secretary to the Commission.

[FR Doc. 2016-01792 Filed 2-1-16; 8:45 am]

BILLING CODE 7020-02-P